DEPARTMENT OF TRANSPORTATION

Federal Highway Administration

[Docket No. FHWA-2026-0133]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by April 10, 2026.

ADDRESSES: You may submit comments identified by DOT Docket ID Number 0133 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Addison Coley and Christopher Douwes, (202) 366-4000, Office of Environment, Planning, and Realty, Department of Transportation, 1200 New Jersey Avenue SE, Washington, DC 20590. Office hours are from 8 a.m. to 5 p.m., Monday through Friday, except Federal holidays.

SUPPLEMENTARY INFORMATION:

Title: Transportation Alternatives and Recreational Trails Annual Report.

Background: The Transportation Alternatives (TAP) and Recreational Trails Program (RTP) Annual Report is an annual requirement for States to report on applications and selections for TAP and RTP funds. TAP is funded through a set-aside of the Surface Transportation Block Grant Program and provides funding for a variety of generally smaller-scale transportation projects, such as pedestrian and bicycle facilities; construction of turnouts, overlooks, and viewing areas; community improvements such as historic preservation and vegetation management; environmental mitigation related to stormwater and habitat connectivity; recreational trails; safe routes to school projects; and vulnerable road user safety assessments. The RTP is funded through a set-aside from TAP and provides funds to the States for motorized and nonmotorized recreational trail and related projects. Statutory law under 23 U.S.C. 133(h)(8), as amended by section 11109(b)(1)(I) of the Infrastructure Investment and Jobs Act (Pub. L. 117-58), requires that, for each fiscal year, States report the number and cost of TAP applications and number and cost of TAP selections, along with descriptive details about selected projects. The Federal Highway Administration is responsible for sharing this information with the public on its website. Previous reports are posted at https://www.fhwa.dot.gov/environment/transportation_alternatives/annual_reports/.

Respondents: The report is prepared by State Departments of Transportation, in coordination with State agencies responsible for managing RTP funds, such as State resource agencies, and with Metropolitan Planning Organizations representing urbanized areas with populations greater than 200,000. The 50 States and the District of Columbia receive TAP funds and therefore must provide an annual TAP report.

Frequency: Once per fiscal year.

Estimated Average Burden per Response: 40 hours.

Estimated Total Annual Burden Hours: 2,040 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: February 5, 2026.
Jazmyne Lewis,
Information Collection Officer.

[FR Doc. 2026-02539 Filed 2-6-26; 8:45 am]

BILLING CODE 4910-22-P